DEPARTMENT OF COMMERCE

National Oceanic and Atmospheric Administration

[I.D. 110802C]

Coral, Golden Crab, Shrimp, Spiny Lobster, Red Drum, Coastal Migratory Pelagic Resources, and Snapper-Grouper Fisheries of the South Atlantic

AGENCY: National Marine Fisheries Service (NMFS), National Oceanic and Atmospheric Administration (NOAA), Commerce.

ACTION: Issuance of an exempted fishing permit.

SUMMARY: NMFS announces the issuance of an exempted fishing permit (EFP) for the North Carolina Aquariums (applicant), headquartered in Raleigh, NC. The EFP would authorize the applicant, with certain conditions, to collect up to 50 red porgy and up to 500 lb (0.23 mt) of coral/live rock each year for 2 years in Federal waters off North Carolina for public display. This EFP is similar to a previously approved EFP that expired on December 31, 2002.

ADDRESSES: Copies of the EFP are available from Peter Eldridge, Southeast Regional Office, NMFS, 9721 Executive Center Drive N., St. Petersburg, FL 33702.

FOR FURTHER INFORMATION CONTACT: Peter Eldridge, 727-570-5305; Fax 727-570-5583; e-mail: peter.eldridge@noaa.gov.

SUPPLEMENTARY INFORMATION: The EFP is issued under the authority of the Magnuson-Stevens Fishery Conservation and Management Act (16 U.S.C. 1801 et seq.), and regulations at 50 CFR 600.745(b).

The North Carolina Aquariums (NCA), is headquarted in Raleigh, NC. The EFP would authorize the applicant, with certain conditions, to collect up to 50 red porgy and up to 500 lb (0.23 mt) of coral/live rock each year for 2 years in Federal waters off North Carolina for public display.

The NCA, located at Roanoke Island, Pine Knoll Shores, and Kure Beach, are public, non-profit, self-supporting institutions established to promote an awareness, understanding, and appreciation of the diverse natural and cultural resources associated with North Carolina's ocean, estuaries, rivers, streams and other aquatic environments. The aquariums represent institutions of major educational and conservation value, offering free admission to school children in groups and extensive field study and outreach programs. The specimens will be maintained in the various NCA.

The proposed collection involves activities otherwise prohibited by regulations implementing the Fishery Management Plans of the South Atlantic Region for Coral, Coral Reefs, and Live/Hard Bottom Habitats, and Snapper-Grouper Fisheries. The applicant requires authorization to harvest and possess corals, live rock, and red porgy taken from Federal waters off North Carolina.

The EFP has a number of conditions concerning the harvest of prohibited species and corals, the gear that can be employed, and bycatch restrictions. The EFP requires an annual report that lists specimens that are taken.

A notice of receipt of the application for this permit was published in the Federal Register on November 21, 2002 (67 FR 70216). In addition to announcing the receipt of the application, public comments were requested. No public comments were received. Also, consistent with the requirements of 50 CFR 600.745(b)(3)(i), NMFS provided copies of the EFP application and information to the State of North Carolina, the South Atlantic Fishery Management Council, and the U.S. Coast Guard along with information on the EFP's effects on target species. All of the consulted entities supported the issuance of the EFP.

Failure of the permittee to comply with the terms and conditions of the EFP may be grounds for revocation, suspension or modification of this permit, as well as civil or criminal sanctions.

Authority: 16 U.S.C. 1801 et seq.

Dated: February 13, 2003.
Richard W. Surdi,
Acting Director,Office of Sustainable Fisheries, National Marine Fisheries Service.

[FR Doc. 03-4140 Filed 2-20-03; 8:45 am]

BILLING CODE 3510-22-S